FEDERAL COMMUNICATIONS COMMISSION

[CG Docket No. 03-123; DA 08-303]

Telecommunications Relay Services and Speech-to-Speech Services for Individuals With Hearing and Speech Disabilities

AGENCY: Federal Communications Commission.

ACTION: Notice; modification of Intrastate TRS Fund size.

SUMMARY: In this document, the Consumer and Governmental Affairs Bureau (Bureau) adopts a revised Interstate Telecommunications Relay Services (TRS) Fund size and carrier contribution factor for the July 2007 to June 2008 Fund year. This action is necessary because given continued significant growth in VRS minutes, together with the revised compensation rates, the present Fund size may be inadequate to compensate providers for the remainder of the present 2007-2008 Fund year.

DATES: Effective February 6, 2008.

FOR FURTHER INFORMATION CONTACT: Thomas Chandler, Consumer and Governmental Affairs Bureau, Disability Rights Office at (202) 418-1475 (voice), (202) 418-0597 (TTY), or e-mail at Thomas.Chandler@fcc.gov.

SUPPLEMENTARY INFORMATION: This is a summary of the Bureau's Order, document DA 08-303 (Order), adopted and released February 6, 2008, adopting a revised TRS Fund size and carrier contribution factor for the July 2007 to June 2008 Fund year. The full text of document DA 08-303 will be available for public inspection and copying during regular business hours at the FCC Reference Information Center, Portals II, 445 12th Street, SW., Room CY-A257, Washington, DC 20554. Document DA 08-303 also may be purchased from the Commission's duplicating contractor at Portals II, 445 12th Street, SW., Room CY-B402, Washington, DC 20554. Customers may contact the Commission's duplicating contractor at its Web site http://www.bcpiweb.com or by calling 1-800-378-3160. To request materials in accessible formats for people with disabilities (Braille, large print, electronic files, audio format), send an e-mail to fcc504@fcc.gov or call the Consumer and Governmental Affairs Bureau at (202) 418-0530 (voice), (202) 418-0432 (TTY). Document DA 08-303 also can be downloaded in Word or Portable Document Format (PDF) at: http://www.fcc.gov/cgb/dro/trs.html#orders.

Synopsis

1. On June 29, 2007, the Bureau released Telecommunications Relay Services and Speech-to-Speech Services for Individuals with Hearing and Speech Disabilities, CG Docket No. 03-123, Order, 22 FCC Rcd 11706 (CGB 2007) (2007 Bureau TRS Rate Order), which adopted for the 2007-2008 Fund year, compensation rates for the various forms of TRS, a Fund size of $553,378,363.18, and a carrier contribution factor of 0.0072. Subsequently, on November 19, 2007, the Commission released Telecommunications Relay Services and Speech-to-Speech Services for Individuals with Hearing and Speech Disabilities, CG Docket No. 03-123, Report and Order and Declaratory Ruling, 22 FCC Rcd 20140 (2007) (2007 TRS Rate Methodology Order), published at 73 FR 3197, January 17, 2008, which, inter alia, adopted revised compensation rates.

2. On November 30, 2007, the Fund administrator (the National Exchange Carrier Association (NECA)) filed with the Commission a revised Fund size and carrier contribution factor for the 2007-2008 Fund year. NECA proposed increasing the Fund size approximately $83 million (to $636,736,491.75), and increasing the carrier contribution factor from 0.0072 to 0.00819. NECA explained that increasing the Fund size is necessary because demand for certain interstate relay services, particularly Video Relay Service (VRS), has outpaced its initial projections, and the revised compensation rates are generally higher than those adopted at the beginning of the Fund year in the 2007 Bureau TRS Rate Order. NECA asserted that, as a result, increasing the Fund size is necessary to ensure that it does not run out of money before the end of the Fund year.

3. In addition, as a result of the increase in the Fund size, as well as the Commission's recent order requiring interconnected VoIP service providers to contribute to the Fund, NECA noted that it also must revise the carrier contribution factor. The carrier contribution factor is calculated by dividing the Fund size by total interstate common carrier end-user revenues. The revised Fund size is $636,736,491.75, and NECA proposed using a revised revenue base of $77.7 billion. As a result, the proposed revised carrier contribution factor is 0.00819.

4. The Bureau agrees that because of the continued significant growth in VRS minutes, together with the revised compensation rates, the present Fund size may be inadequate to compensate providers for the remainder of the present 2007-2008 Fund year. Therefore, the Bureau finds it necessary to increase the Fund size and adjust the carrier contribution factor for the July 2007 through June 2008 funding period. Because the TRS regulations provide that the carrier contribution factor shall be determined annually, the Bureau applies the established standards for waiver of Commission rules.

5. Generally, the Commission's rules may be waived for good cause shown. The Commission may exercise its discretion to waive a rule where the particular facts make strict compliance inconsistent with the public interest. In addition, the Commission may take into account considerations of hardship, equity, or more effective implementation of overall policy on an individual basis. Waiver of the Commission's rules is therefore appropriate only if special circumstances warrant a deviation from the general rule, and such a deviation will serve the public interest.

6. Applying this standard, the Bureau concludes that good cause exists to waive the Commission's rules to the extent they require that the carrier contribution factor be determined on an annual basis. The increase in demand usage in TRS was not anticipated, and the Commission must ensure that the Interstate TRS Fund has adequate funds to compensate eligible TRS providers for the provision of eligible TRS services and ensure the continued availability of relay services to persons with hearing and speech disabilities. Therefore, as a result of the significant growth of demand usage in TRS, as well as the new compensation rates, the Bureau adjusts the annual carrier contribution factor for the July 2007 through June 2008 funding period from 0.0072 to 0.00819 in order to collect the additional monies needed over the remaining months of the fund year. The revised Fund size shall be $636,736,491.75.

Ordering Clauses

Pursuant to the authority contained in section 225 of the Communications Act of 1934, as amended, 47 U.S.C. 225, and sections 0.141, 0.361 and 1.3 of the Commission's rules, 47 CFR 0.141, 0.361 and 1.3, document DA 08-303 is adopted.

The Interstate TRS Fund size for the July 2007 through June 2008 funding period will increase from $553,378,363.18 to $636,736,491.75 and, as a result, the annual contribution factor shall be modified from 0.0072 to 0.00819.

Document DA 08-303 became effective on February 6, 2008.

Federal Communications Commission.
Nicole McGinnis,
Deputy Chief, Consumer and Governmental Affairs Bureau.

[FR Doc. E8-8564 Filed 4-18-08; 8:45 am]

BILLING CODE 6712-01-P